DEPARTMENT OF COMMERCE

International Trade Administration

[A-570-941]

Certain Kitchen Appliance Shelving and Racks From the People's Republic of China: Extension of Time Limit for the Preliminary Results

AGENCY: Import Administration, International Trade Administration, Department of Commerce.

DATES: Effective Date: April 16, 2012.

FOR FURTHER INFORMATION CONTACT: Katie Marksberry, AD/CVD Operations, Office 9, Import Administration, International Trade Administration, U.S. Department of Commerce, 14th Street and Constitution Avenue NW., Washington, DC 20230; telephone, (202) 482-7906.

Background

On October 30, 2011, the Department of Commerce (“Department”) published the notice of initiation of an administrative review of the antidumping duty order on certain kitchen appliance shelving and racks from the People's Republic of China (“PRC”), covering the period September 1, 2010, through August 31, 2011.¹ On November 17, 2011, after receiving U.S. Customs and Border Protection (“CBP”) data, the Department selected a mandatory respondent and issued its antidumping questionnaire. Additionally, on December 21, 2011, after receiving comments and rebuttal comments from Petitioners,² New King Shan (Zhu Hai) Co., Ltd. and Guangdong Wireking Housewares and Hardware Co., Ltd., the Department selected an additional mandatory respondent.³ The preliminary results of this administrative review are currently due on June 1, 2012.

¹ See Initiation of Antidumping and Countervailing Duty Administrative Reviews, 76 FR 67133 (October 31, 2011).

² Nashville Wire Products Inc. and SSW Holding Company, Inc. (collectively, “Petitioners”).

³ See Memorandum to The File, from Katie Marksberry, International Trade Analyst, through James C. Doyle, Director, Office 9, Re: Antidumping Duty Review of Certain Kitchen Appliance Shelving and Racks from the People's Republic of China: Selection of an Additional Mandatory Respondent (December 21, 2011).

Extension of Time Limits for the Preliminary Results

Section 751(a)(3)(A) of the Tariff Act of 1930, as amended (“the Act”), requires the Department to issue preliminary results of an administrative review within 245 days after the last day of the anniversary month of an order for which a review is requested and to issue final results within 120 days after the date on which the preliminary results are published. However, if it is not practicable to complete the review within these time periods, section 751(a)(3)(A) of the Act allows the Department to extend the time limit for the preliminary results to a maximum of 365 days after the last day of the anniversary month.

The Department determines that completion of the preliminary results of this review within the statutory time period is not practicable. The Department requires more time to gather and analyze surrogate country and value information, review questionnaire responses, and issue supplemental questionnaires. Therefore, in accordance with section 751(a)(3)(A) of the Act, we are extending the time period for issuing the preliminary results of review by 120 days until September 29, 2012.⁴ The final results continue to be due 120 days after the publication of the preliminary results.

⁴ September 29, 2012, is a Saturday. Department practice dictates that where a deadline falls on a weekend or federal holiday, the appropriate deadline is the next business day. See Notice of Clarification: Application of “Next Business Day” Rule for Administrative Determination Deadlines Pursuant to the Tariff Act of 1930, As Amended, 70 FR 24533 (May 10, 2005). Accordingly, the Department will issue the preliminary results on October 1, 2012.

This notice is published pursuant to sections 751(a)(3)(A) and 777(i) of the Act and 19 CFR 351.213(h)(2).

Dated: April 9, 2012.
Christian Marsh,
Deputy Assistant Secretary for Antidumping and Countervailing Duty Operations.

[FR Doc. 2012-9080 Filed 4-13-12; 8:45 am]

BILLING CODE 3510-DS-P